DEPARTMENT OF ENERGY

Federal Energy Regulatory Commission

[Project Nos. 1953-088; 2110-034; 2192-046; 2256-075; 2590-065; 2207-048; 2212-052; 2255-120; 2291-180; 2292-141]

Consolidated Water Power Company; Ahlstrom-Munksjö Specialty Solutions Acquisition LLC; Domtar Paper Company, LLC; Domtar Wisconsin Corporation; Notice of Applications Accepted for Filing, Soliciting Comments, Protests and Motions To Intervene

Take notice that the following hydroelectric applications have been filed with the Commission and are available for public inspection:

a. Type of Proceeding: Extension of License Terms (Central Basin).

b. Project Nos.: P-1953-088, P-2110-034, P-2192-046, P-2256-075, P-2590-065, P-2207-048, P-2212-052, P-2255-120, P-2291-180, and P-2292-141.

c. Dates Filed: February 4, 2019, February 11, 2019, and February 22, 2019.

d. Licensees: Consolidated Water Power Company, Ahlstrom-Munksjö Specialty Solutions Acquisition LLC, Domtar Paper Company, LLC, and Domtar Wisconsin Corporation.

e. Names and Locations of the Projects: DuBay (P-1953-088), Stevens Point (P-2110-034), Biron (P-2192-046), Wisconsin Rapids (P-2256-075), Whiting (P-2590-065), Mosinee (P-2207-048), Rothschild (P-2212-052), Centralia (P-2255-120), Port Edwards (P-2291-180), and Nekoosa (P-2292-141) hydroelectric projects, all located on the Wisconsin River, in Wood, Marathon, and Portage counties, Wisconsin.

f. Filed Pursuant to: Federal Power Act, 16 U.S.C. 791a-825r.

g. Licensees Contact Information: (P-1953-088, P-2110-034, P-2192-046, P-2256-075 & P-2290-065) Mr. Thomas Scharff, President, Consolidated Water Power Company, 610 High Street, P.O. Box 8050, Wisconsin Rapids, WI 54495, (715) 422-3073, Thomas,scharff@versoco.com; (P-2207-048) Ms. Jennifer Peplinski, Senior Environmental Health and Safety Manager, Ahlstrom-Munksjö Specialty Solutions Acquisition LLC, 100 Main Street Mosinee, WI 54455, (715) 692-3364, Jennifer.Peplinski@Ahlstrom-Munksjo.com; (P-2212-052) Mr. Steven Lewens, Environmental Health & Safety Manager-Rothschild, Domtar Paper Company, LLC, 200 North Grand Avenue, Rothschild, WI 54474, (715) 355-6268, Steven.lewens@domtar.com; (P-2255-120, P-2291-180 & P-2292-141) Mr. David S. Ulrich, Environmental Manager, Domtar Wisconsin Dam Corporation, Nekoosa Mill, 301 Point Basse Avenue, Nekoosa, WI 54457, (715) 886-7711, david.ulrich@domtar.com.

h. FERC Contact: Mr. Ashish Desai, (202) 502-8370, Ashish.Desai@ferc.gov.

i. Deadline for filing comments, motions to intervene and protests is 30 days from the issuance date of this notice by the Commission. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number, for example, “P-1953-088”.

Note that you can file comments, motions to intervene, and protects in response to all of the projects identified in the notice together (i.e., one response for all projects) or you can respond to each project individually, or do a combination of both.

j. Description of Proceeding: Ahlstrom-Munksjö Specialty Solutions Acquisition LLC and Domtar Paper Company, LLC, on February 4, 2019, Consolidated Water Power Company, on February 11, 2019, and Domtar Wisconsin Corporation, on February 22, 2019, filed requests to extend the license terms for their ten respective projects located in the central sub-basin of the Wisconsin River. The projects include: (1) The DuBay (P-1953), Stevens Point (P-2110), Biron (P-2192), Wisconsin Rapids (P-2256), and Whiting (P-2590) projects licensed to the Consolidated Water Power Company; (2) the Mosinee Project No. 2207 licensed to Ahlstrom-Munksjö Specialty Solutions Acquisition LLC; (3) the Rothschild Project No. 2212 licensed to Domtar Paper Company, LLC; and (4) the Centralia (P-2292), Port Edwards (P-2291), and Nekoosa (P-2255) projects licensed to Domtar Wisconsin Corporation.

Currently, the 30-year licenses for the DuBay, Wisconsin Rapids, Whiting, Mosinee, Rothschild, Centralia, Port Edwards, and Nekoosa Projects expire on June 30, 2026, the 30-year licenses for the Biron and Stevens Point Projects expire on June 30, 2033, and the 30-year license for the Mosinee Project expires on March 31, 2035. The licensees seek Commission approval to extend the license terms for the above ten projects so they all expire on June 30, 2038. The licensees say the extensions would assist with the comprehensive study and analysis of the projects' cumulative environmental impact and would reduce stakeholder burden by integrating the relicensing consultation process. Additionally, the licensees say that aligning the license expiration dates would eliminate redundancies during relicensing for all involved parties as the projects in the central sub-basin have similar vegetation, land cover, hydrology, and resource management concerns.

The licensees' requests are part of a broader proposal to align the license expiration dates for 20 projects on the Wisconsin River into three groupings based on each project's location to facilitate comprehensive study and analysis and coordinate relicensing as discussed above. This public notice covers ten projects in the central sub-basin of the Wisconsin River. The Commission is issuing two other public notices—one for eight projects in the northern sub-basin of the Wisconsin River that would align these expiration dates so they expire on June 30, 2033 and another public notice for two projects in the southern sub-basin of the Wisconsin River that would align the license expiration dates to expire on June 30, 2041.

k. This notice is available for review and reproduction at the Commission in the Public Reference Room, Room 2A, 888 First Street NE, Washington, DC 20426. The filing may also be viewed on the Commission's website at http://www.ferc.gov/docs-filing/elibrary.asp. Enter the Docket number (for example, P-1953-088) excluding the last three digits in the docket number field to access the notice. You may also register online at http://www.ferc.gov/docs-filing/esubscription.asp to be notified via email of new filings and issuances related to this or other pending projects. For assistance, call toll-free 1-866-208-3676 or email FERCOnlineSupport@ferc.gov. For TTY, call (202) 502-8659.

l. Individuals desiring to be included on the Commission's mailing list should so indicate by writing to the Secretary of the Commission.

m. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

n. Filing and Service of Responsive Documents: Any filing must (1) bear in all capital letters the title COMMENTS, PROTEST, or MOTION TO INTERVENE as applicable; (2) set forth in the heading the name of the applicant(s) and the project number(s) of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to the requests to extend the license terms. Agencies may obtain copies of the applications directly from the applicants. A copy of any protest or motion to intervene must be served upon each representative of the applicant specified in the particular application. If an intervener files comments or documents with the Commission relating to the merits of an issue that may affect the responsibilities of a particular resource agency, they must also serve a copy of the document on that resource agency. A copy of all other filings in reference to these applications must be accompanied by proof of service on all persons listed in the service list prepared by the Commission in this proceeding, in accordance with 18 CFR 4.34(b) and 385.2010.

Dated: March 28, 2019..
Nathaniel J. Davis, Sr.,
Deputy Secretary.

[FR Doc. 2019-06466 Filed 4-2-19; 8:45 am]

BILLING CODE 6717-01-P